INTERNATIONAL TRADE COMMISSION

[Investigation No. 337-TA-1226]

Certain Artificial Eyelash Extension Systems, Products, and Components Thereof; Institution of Investigation

AGENCY: U.S. International Trade Commission.

ACTION: Notice.

SUMMARY: Notice is hereby given that a complaint was filed with the U.S. International Trade Commission on September 10, 2020, under section 337 of the Tariff Act of 1930, as amended, on behalf of Lashify, Inc. of Glendale, California. The complaint alleges violations of section 337 based upon the importation into the United States, the sale for importation, and the sale within the United States after importation of certain artificial eyelash extension systems, products, and components thereof by reason of infringement of certain claims of U.S. Patent No. 10,660,388 (“the '388 patent”); U.S. Patent No. 10,721,984 (“the '984 patent”); U.S. Design Patent No. D877,416 (“the 'D416 patent”); and U.S. Patent No. D867,664 (“the 'D664 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on October 22, 2020, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-4 and 7-22 of the '388 patent; claims 1-29 of the '984; the claim of the 'D416 patent; and the claim of the 'D664 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “artificial eyelash extensions, cartridges for packaging and storage of artificial eyelash extensions, application devices, bonding agents, and removers, as well as artificial eyelash extension systems containing one or more of the same”;

(3) For the purpose of the investigation so instituted, the following are hereby named as parties upon which this notice of investigation shall be served:

(a) The complainant is:

Lashify, Inc., 11437 Chandler Boulevard, Suite A, Glendale, CA 91601

(b) The respondents are the following entities alleged to be in violation of section 337, and are the parties upon which the complaint is to be served:

KISS Nail Products, Inc., 25 Harbor Park Drive, Port Washington, NY 11050

Ulta Beauty, Inc., 1000 Remington Boulevard, Suite 120, Bolingbrook, IL 60440

Walmart, Inc., 702 SW 8th Street, Bentonville, AR 72716

CVS Health Corporation, One CVS Drive, Woonsocket, RI 02895

Qingdao Hollyren Cosmetics Co., Ltd. d/b/a Hollyren, No. 3 Qianbali East Road, Pingdu Development Zone, Pingdu City, Qingdao City, Shandong Province, China

Qingdao Xizi International Trading Co., Ltd. d/b/a Xizi Lashes, No. 3 Qianbali East Road, Pingdu Development Zone, Pingdu City, Qingdao City, Shandong Province, China

Qingdao LashBeauty Cosmetic Co., Ltd. d/b/a Worldbeauty, Room 219, No. 2 Building Yinhua Plaza, No. 190 Shandong Road, Shibei District, Qingdao, China, 266034

Alicia Zeng d/b/a Lilac St.; Artemis Family Beginnings, Inc., 918 Capp St., San Francisco, CA 94110

Rachael Gleason d/b/a Avant Garde Beauty Co., 990 Singleton Blvd., Apt. 1259, Dallas, TX 75212

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 23, 2020.
Lisa Barton,
Secretary to the Commission.

[FR Doc. 2020-23837 Filed 10-27-20; 8:45 am]

BILLING CODE 7020-02-P